DEPARTMENT OF TRANSPORTATION

Federal Aviation Administration

14 CFR Part 71

[Docket No. FAA-2021-0244; Airspace Docket No. 20-AWP-9]

RIN 2120-AA66

Modification of Class D and Class E Airspace and Establishment of Class E Airspace; Camarillo, CA

AGENCY: Federal Aviation Administration (FAA), Department of Transportation (DOT).

ACTION: Final rule.

SUMMARY: This action modifies the Class E airspace, designated as an extension to a Class D or Class E surface area, at Camarillo Airport, Camarillo, CA. This action also removes the Camarillo very high frequency omnidirectional range (VOR)/distance measuring equipment (DME) from the airspace's legal description. Additionally, this action establishes Class E airspace extending upward from 700 feet above the surface. Lastly, this action makes administrative changes to the Class D and Class E legal descriptions. These actions would ensure the safety and management of visual flight rules (VFR) and instrument flight rules (IFR) operations at the airport.

DATES: Effective 0901 UTC, November 3, 2022. The Director of the Federal Register approves this incorporation by reference under 1 CFR part 51, subject to the annual revision of FAA Order JO 7400.11, Airspace Designations and Reporting Points, and publication of conforming amendments.

ADDRESSES: FAA Order JO 7400.11F, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify the Class D and Class E airspace at Camarillo Airport, Camarillo, CA, to support VFR and IFR operations at the airport.

History

The FAA published a notice of proposed rulemaking (NPRM) in the Federal Register for FAA-2021-0244 (87 FR 34595; June 7, 2022) to modify the Class E airspace designated as an extension to a Class D or Class E surface area, establish Class E airspace beginning at 700 feet above the surface, remove the Camarillo VOR/DME from the airspace's legal description, and make administrative changes to the Class D and Class E legal descriptions at Camarillo Airport, Camarillo, CA. Interested parties were invited to participate in this rulemaking effort by submitting written comments on the proposal to the FAA. No comments were received. Class D, Class E4, and Class E5 airspace designations are published in paragraphs 5000, 6004, and 6005, respectively, of FAA Order JO 7400.11F, dated August 10, 2021, and effective September 15, 2021, which is incorporated by reference in 14 CFR 71.1. The Class D and Class E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

The FAA is amending 14 CFR part 71 by modifying the Class E airspace, designated as an extension to a Class D or Class E surface area. This airspace area is east of the airport and is reduced to properly contain IFR aircraft descending below 1,000 feet above the surface. This action also removes the Camarillo VOR/DME navigational aid (NAVAID) from the airspace's legal description. The NAVAID is not required to define the airspace and removal of the NAVAID simplifies the airspace's description.

Additionally, this action establishes Class E airspace extending upward from 700 feet above the surface. This airspace is designed to contain arriving IFR aircraft descending below 1,500 feet above the surface and departing IFR aircraft until they reach 1,200 feet above the surface. Lastly, this action also makes several administrative modifications to the Class D and Class E airspace's legal descriptions. To match the FAA database, the geographic coordinates in the third line of the Class E4 airspace's text header are modified to read lat. “34°12′50″ N, long. 119°05′40″ W.” Also, since Camarillo Airport's Class D airspace abuts the Class D areas for Point Mugu Naval Air Station and Oxnard Airports, the geographic coordinates at Camarillo Airport's Class D are updated to more accurately define the common borders of the Class D areas, which do not represent a change to the current boundaries. The Class D and Class E4 legal descriptions are updated to read “Notice to Air Missions” in place of “Notice to Airmen,” to match the FAA's current definition of the acronym “NOTAM.” Finally, the term “Airport/Facility Directory” in the last sentence of the Class D and Class E4 airspace descriptions is updated to read “Chart Supplement.”

Class D, E4, and E5 airspace designations are published in paragraphs 5000, 6004, and 6005, respectively, of FAA Order JO 7400.11F, dated August 10, 2021, and effective September 15, 2021, which is incorporated by reference in 14 CFR 71.1. The Class D and Class E airspace designations listed in this document will be published subsequently in FAA Order JO 7400.11. FAA Order JO 7400.11 is published annually and becomes effective on September 15.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT regulatory policies and procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5a. This airspace action is not expected to cause any potentially significant environmental impacts, and no extraordinary circumstances exist that warrant the preparation of an environmental assessment.

List of Subjects in 14 CFR Part 71

Airspace, incorporation by reference, navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000. Class D Airspace.

* * * * *

AWP CA D Camarillo, CA [Amended]

Camarillo Airport, CA

(Lat. 34°12′50″ N, long. 119°05′40″ W)

That airspace extending upward from the surface to and including 2,000 feet MSL within a 4.3-mile radius of the Camarillo Airport, excluding that portion south and west of a line beginning at lat. 34°09′18.02″ N, long. 119°02′40.92″ W; to lat. 34°10′34.70″ N, long. 119°04′1.71″ W; to lat. 34°10′22″ N, long. 119°09′27″ W; to lat. 34°15′38.75″ N, long. 119°09′34.88″ W. This Class D airspace area is effective during the specific dates and times established in advance by a Notice to Air Missions. The effective date and time will thereafter be continuously published in the Chart Supplement.

Paragraph 6004. Class E Airspace Areas Designated as an Extension to a Class D or Class E Surface Area.

* * * * *

AWP CA E4 Camarillo, CA [Amended]

Camarillo Airport, CA

(Lat. 34°12′50″ N, long. 119°05′40″ W)

That airspace extending upward from the surface within 2.5 miles each side of the 079° bearing from the airport, extending from the 4.3-mile radius to 8.2 miles east of the airport. This Class E airspace area is effective during the specific dates and times established in advance by a Notice to Air Missions. The effective date and time will thereafter be continuously published in the Chart Supplement.

Paragraph 6005. Class E Airspace Areas Extending Upward From 700 Feet or More Above the Surface of the Earth.

* * * * *

AWP CA E5 Camarillo, CA [New]

Camarillo Airport, CA

(Lat. 34°12′50″ N, long. 119°05′40″ W)

That airspace extending upward from 700 feet above the surface within a 4.8-mile radius of the airport and within 3.1 miles each side of the 079° bearing from the airport extending from the 4.3-mile radius to 10.8 miles east of the airport, and within 1 mile each side of the 268° bearing from the airport extending from the 4.8-mile radius to 5.3 miles west of the airport.

Issued in Des Moines, Washington, on August 17, 2022.
B.G. Chew,
Group Manager, Operations Support Group, Western Service Center.

[FR Doc. 2022-18105 Filed 8-23-22; 8:45 am]

BILLING CODE 4910-13-P